DEPARTMENT OF HOUSING AND URBAN DEVELOPMENT

[Docket No. FR-5303-N-01]

Notice of Availability of Fiscal Year 2008 Fleet Alternative Fuel Vehicle Acquisition Report

AGENCY: Office of the Assistant Secretary for Administration, HUD.

ACTION: Notice of availability of report.

SUMMARY: Through this notice, HUD is announcing the availability on its Web site of HUD's Fleet Alternative Fuel Vehicle Acquisition Report for Fiscal Year 2008, which was prepared in accordance with the Energy Policy Act of 1992.

FOR FURTHER INFORMATION CONTACT: Bradley S. Jewitt, Director, Facilities Management Division, Office of Administrative and Management Services, Office of Administration, Department of Housing and Urban Development, 451 7th Street, SW., Washington, DC 20410-3000; telephone number 202-402-7384 (this is not a toll-free number). Hearing-or speech-impaired individuals may access the voice telephone number listed above by calling the toll-free Federal Information Relay Service during working hours at 800-877-8339.

SUPPLEMENTARY INFORMATION: The Energy Policy Act (42 U.S.C. 13201 et seq. ) (the Act) establishes a comprehensive plan to achieve economic, energy and environmental benefits by promoting the use of alternative fuels. A major goal of the Act is to have the Federal government exercise leadership in the use of alternative fuel vehicles. To that end, the Act established alternative fuel vehicle purchasing requirements for the Federal fleets of government agencies, and requires Federal agencies to report on their compliance with the requirements of the Act. A copy of HUD's Fiscal Year 2008 Fleet Alternative Fuel Vehicle Report can be obtained via the World Wide Web at: http://www.hud.gov/offices/adm/reports/admreports.cfm.

Dated: March 13, 2009.
Darlene F. Williams,
General Deputy Assistant Secretary for Administration.

[FR Doc. E9-6480 Filed 3-24-09; 8:45 am]

BILLING CODE 4210-67-P